DEPARTMENT OF COMMERCE

National Oceanic and Atmospheric Administration

RIN 0648-XE907

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Whiting Committee to consider actions affecting New England fisheries in the exclusive economic zone (EEZ). Recommendations from this group will be brought to the full Council for formal consideration and action, if appropriate.

DATES: This meeting will be held on Thursday, October 13, 2016 at 10 a.m.

ADDRESSES:

Meeting address: The meeting will be held at the Hilton Garden Inn, One Thurber Street, Warwick, RI 02886 telephone: (401) 734-9600.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will receive a report on Amendment 22 limited access qualification alternatives developed during the October 6, 2016 Joint Advisory Panel (AP)—Plan Development Team (PDT) meeting. They will also receive a summary of the 2015 Annual Monitoring Report from the PDT as well as discuss scheduling of actions and priorities for 2017. The Committee will have a closed session to review of AP applications for 2018-20 and make recommendations for approval to the Council's Executive committee. Other business, as necessary.

Special Accommodations

This meeting is physically accessible to people with disabilities. Requests for sign language interpretation or other auxiliary aids should be directed to Thomas A. Nies, Executive Director, at (978) 465-0492, at least 5 days prior to the meeting date.

Authority: 16 U.S.C. 1801 et seq.

Dated: September 21, 2016.
Tracey L. Thompson,
Acting Deputy Director, Office of Sustainable Fisheries, National Marine Fisheries Service.

[FR Doc. 2016-23127 Filed 9-23-16; 8:45 am]

BILLING CODE 3510-22-P